DEPARTMENT OF ENERGY

[FE Docket No. PP-229]

Application for Presidential Permit; Tucson Electric Power Company

AGENCY: Office of Fossil Energy, DOE.

ACTION: Notice of Application.

SUMMARY: Tucson Electric Power Company (TEP) has applied for a Presidential permit to construct, connect, operate and maintain a double-circuit, 345,000-volt (345-kV) alternating current electric transmission line across the U.S. border with Mexico.

DATES: Comments, protests, or requests to intervene must be submitted on or before October 20, 2000.

ADDRESSES: Comments, protests, or requests to intervene should be addressed as follows: Office of Coal & Power Import and Export (FE-27), Office of Fossil Energy, U.S. Department of Energy, 1000 Independence Avenue, SW., Washington, DC 20585-0350.

FOR FURTHER INFORMATION CONTACT: Ellen Russell (Program Office) 202-586-9624 or Michael T. Skinker (Program Attorney) 202-586-6667.

SUPPLEMENTARY INFORMATION: The construction, connection, operation, and maintenance of facilities at the international border of the United States for the transmission of electric energy between the United States and a foreign country is prohibited in the absence of a Presidential permit issued pursuant to Executive Order (EO) 10485, as amended by EO 12038.

On August 17, 2000, TEP, a regulated public utility, filed an application with the Office of Fossil Energy (FE) of the Department of Energy (DOE) for a Presidential permit. TEP proposes to construct two 345-kV transmission circuits on a single set of support structures within a 150 to 200 foot right-of-way. Both circuits would originate at TEP's existing South Substation located approximately 15 miles south of Tucson in the vicinity of Sahuarita, Arizona, and 1.4 miles east of Interstate 19, south of Pima Mine Road in Pima County, Arizona. TEP proposes to use these two circuits to interconnect with the Citizens' Utilities system in the vicinity of Nogales, Arizona, by constructing a new substation on the west side of Nogales and “stepping-down” the voltage of the circuits from 345-kV to 115-kV. From the new substation, the proposed 345-kV circuits would continue across the U.S.-Mexican border for approximately 60 miles and interconnect with the Comision Federal de Electricidad (CFE; the national electric utility of Mexico) at CFE's Santa Ana Substation. TEP proposes December 2003 as an in-service date for both its transmission interconnection with Citizens Utilities and the interconnection with CFE.

TEP has identified three, 5-mile wide corridors (2½ miles either side of a center line) as possible route alternatives. These corridors are currently identified by TEP as the “Central Study Corridor,” the “Easterly Study Corridor,” and the “Westerly Study Corridor.”

The following description of possible routing alternatives have been provided by TEP. The map submitted as an exhibit in the TEP Presidential permit application does not contain this level of detail; however, maps will be prepared by TEP and distributed to the general public before the environmental process associated with this application begins. The distances identified in the descriptions that follow represent distances along the arbitrary centerline of the 5-mile wide study corridors.

The Central Study Corridor leaves South Substation to the south adjacent to an existing 345-kV transmission line and heads west for approximately 1 mile. Continuing to parallel existing transmission, the line then turns south for 1.5 miles before turning west again where it crosses Interstate 19 (I-19), approximately 1 mile north of Sahuarita Road. The study corridor continues west for approximately 2.3 miles where it turns south for 2 miles continuing to parallel existing transmission. At Camino del Toro and Avenue Cinco (west of the community of Sahuarita) the existing 345-kV transmission line and the proposed study corridor turn west for 4.0 miles to a point where the existing transmission line intersects an existing natural gas pipeline. At the pipeline, the study corridor turns south and parallels the natural gas pipeline, for 45.3 miles, extending through the Coronado National Forest, to the west side of Nogales, Arizona, and across the International Border. In this alternative, I-19 is within the 5-mile wide study corridor from approximately one mile south of Arivaca Road to approximately two miles south of the community of Tumacacori. However, the center line of the study corridor remains west of I-19.

The Easterly Study Corridor leaves South substation to the east for approximately 6.0 miles, where it turns south along the Wilmot Road alignment and parallels the existing Citizens Utilities 115-kV transmission line alignment (east of the community of Sahuarita and west of the community of Corona de Tucson), and continues south for another 6.5 miles before reaching the turning point of Citizens Utilities existing 115-kV transmission line alignment. At this point, the proposed corridor continues to parallel the Citizens Utilities 115-kV line southwesterly for approximately 18.4 miles to the vicinity of Amado-Montosa Road. Leaving the 115-kV transmission line alignment, this corridor turns southwesterly for 2.9 miles and crosses I-19 (east to west). At this point the easterly study corridor joins the central study corridor, approximately 1 mile south of Arivaca Road, turns south, and continues along the existing natural gas pipeline corridor through the Coronado National Forest to Nogales and the border.

The Westerly Study Corridor follows the central study corridor from the South Substation to the natural gas pipeline corridor. This corridor then turns south and continues 8.3 miles along the natural gas pipeline corridor to the vicinity of the TEP Cyprus Sierrita Substation, west of Green Valley. At this point, the westerly study corridor turns to the southwest for 4.2 miles, where it then turns due south onto land under the control of the Coronado National Forest for a distance of approximately 19.7 miles paralleling the Pima and Santa Cruz County lines. The County lines are within the study corridor, west of the center line. At this point, within the Forest, the study corridor will traverse a gentle arc, with turning points to be determined by terrain and access to the southeast, until it intersects the existing gas pipeline alignment and the original central study corridor alignment. This is approximately 12.5 miles northwest of the terminus in Nogales and the international border.

Prior to commencing electricity exports to Mexico using these proposed facilities, TEP, or any other electricity exporters, must obtain, from the Department of Energy, an electricity export authorization required by section 202(e) of the Federal Power Act.

Since the restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities constructed pursuant to Presidential permits to provide access across the border in accordance with the principles of comparable open access and non-discrimination contained in the FPA and articulated in Federal Energy Regulatory Commission Order No. 888, as amended (Promoting Wholesale Competition Through Open Access Non-Discriminatory Transmission Services by Public Utilities). In furtherance of this policy, DOE intends to condition any Presidential permit issued in this proceeding on compliance with these open access principles.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Ed Beck, Supervisor, Transmission Planning, Tucson Electric Power Company, P. O. Box 711, Tucson, Arizona 85702.

Before a Presidential permit may be issued or amended, the DOE must determine that the proposed action will not adversely impact on the reliability of the U.S. electric power supply system. In addition, DOE must consider the environmental impacts of the proposed action (i.e., granting the Presidential permit, with any conditions and limitations, or denying the permit) pursuant to NEPA. DOE also must obtain the concurrence of the Secretary of State and the Secretary of Defense before taking final action on a Presidential permit application.

The NEPA compliance process is a cooperative, non-adversarial process involving members of the public, state governments and the Federal government. The process affords all persons interested in or potentially affected by the environmental consequences of a proposed action an opportunity to present their views, which will be considered in the preparation of the environmental documentation for the proposed action. Intervening and becoming a party to this proceeding will not create any special status for the petitioner with regard to the NEPA process. Notice of upcoming NEPA activities and information on how the public can participate in those activities will appear in the Federal Register. Additional announcements will appear in local newspapers in the vicinity of the proposed transmission line. To apply for the NEPA mailing list now, contact Mrs. Ellen Russell at the address above.

Copies of this application will be made available, upon request, for public inspection and copying at the address provided above. In addition, the application may be reviewed or downloaded from the Fossil Energy Home Page at: http://www.fe.doe.gov. Upon reaching the Fossil Energy Home page, select “Electricity” and then “Pending Proceedings” from the options menu.

Issued in Washington, DC, on September 13, 2000.
Anthony J. Como,
Deputy Director, Electric Power, Regulation, Office of Coal & Power Im/Ex, Office of Coal & Power Systems, Office of Fossil Energy.

[FR Doc. 00-24119 Filed 9-19-00; 8:45 am]

BILLING CODE 6450-01-P